DEPARTMENT OF ENERGY

Federal Energy Regulatory Commission

[Docket No. RP09-47-000]

Wyoming Interstate Company, Ltd.; Notice of Technical Conference

January 12, 2009.

Take notice that the Commission will convene a technical conference in the above-referenced proceeding on Wednesday, January 28, 2009, at 10 a.m. (EDT), in a room to be designated at the offices of the Federal Energy Regulatory Commission, 888 First Street, NE., Washington, DC 20426.

The Commission's November 26, 2008 Order ¹ in Docket No. RP09-47-000 directed that a technical conference be held to address the issues raised by the October 31, 2008 tariff filing by Wyoming Interstate Company, Ltd. (WIC) to provide the first annual update to the cost/revenue true-up accepted in Docket No. RP07-699-000. Commission Staff and interested persons will have the opportunity to discuss all of the issues raised by WIC's filing including, but not limited to, technical, engineering and operational issues, and issues related to the interpretation of tariff provisions governing WIC's fuel tracking mechanism, and specifically, its cost/revenue true-up.

¹ Wyoming Interstate Co., Ltd., 125 FERC ¶ 61,240 (2008).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Timothy Duggan at (202) 502-8326 or e-mail Timothy.Duggan@ferc.gov.

Kimberly D. Bose,
Secretary.

[FR Doc. E9-1019 Filed 1-16-09; 8:45 am]

BILLING CODE 6717-01-P